DEPARTMENT OF COMMERCE

International Trade Administration

[A-122-838]

Notice of Amended Final Results of Antidumping Duty Administrative Review; Certain Softwood Lumber Products From Canada

Correction

In notice document E5-653 beginning on page 3458 in the issue of Monday, January 23, 2006, make the following correction:

On page 3460, the table is corrected in part to read as follows:

Producer/exporter | Original weighted-average margin (percentage) | Amended weighted-average margin (percentage)
* * * * * * *
Buchanan (and its affiliates Atikokan Forest Products Ltd., Long Lake Forest Products Inc., Nakina Forest Products Limited,⁹ Buchanan Distribution Inc., Buchanan Forest Products Ltd., Great West Timber Ltd., Dubreuil Forest Products Ltd., Northern Sawmills Inc., McKenzie Forest Products Inc., Buchanan Northern Hardwoods Inc., Northern Wood, and Solid Wood Products Inc.) | 2.86 | 2.76
Canfor ¹⁰ (and its affiliates Canfor Wood Products Marketing Ltd., Canadian Forest Products, Ltd., Bois Daaquam Inc. / Daaquam Lumber Inc., Lakeland Mills Ltd., The Pas Lumber Company Ltd. / Winton Sales, Howe Sound Pulp and Paper Limited Partnership, Winton Global Lumber Ltd., and Skeena Cellulose) | 1.36 | 1.35
Tembec (and its affiliates Marks Lumber Ltd., Excel Forest Products, Les Industries Davidson Inc., Produits Forestiers Temrex Limited Partnership, Tembec Industries Inc., Spruce Falls Inc.) | 4.02 | 4.02
* * * * * * *

[FR Doc. Z6-653 Filed 1-27-06; 8:45 am]

BILLING CODE 1505-01-D

ENVIRONMENTAL PROTECTION AGENCY

40 CFR Parts 9, 141, and 142

[EPA-HQ-OW-2002-0039; FRL-8013-1]

RIN 2040-AD37

National Primary Drinking Water Regulations: Long Term 2 Enhanced Surface Water Treatment Rule

Correction

In rule document 06-4 beginning on page 654 in the issue of Thursday, January 5, 2006, make the following corrections:

1. On page 716, in Table IV.G-1, in the third column, in the fifth entry, “No later than October 1, 2013³” should read “No later than October 1, 2012³”.

2. On the same page, in the same table, in the fourth column, in the fifth entry, “No later than October 1, 2012³” should read “No later than October 1, 2013³”.

3. On the same page, in Table IV.G-2, in the first column, in the fourth line, “Report notice intent” should read “Report notice of intent”.

4. On page 724, in Table IV.J-1, in footnote 8, in the first and second lines, “enzyme glucuronidase” should read “enzyme βglucuronidase”.

[FR Doc. C6-4 Filed 1-27-06; 8:45 am]

BILLING CODE 1505-01-D